NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by July 28, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-5411), as amended by the Antarctic Science, Tourism and Conservation Act of 1996, has developed regulations for the establishment of a permit system for various activities in Antarctica and designation of certain animals and certain geographic areas requiring special protection. The regulations establish such a permit system to designate Antarctic Specialty Protected Areas.

The applications received are as follows:

1. Applicant: Permit Application No. 2004-006

Eric Chiang, Head, Polar Research Support Section, Office of Polar Programs, Rm. 755, National Science Foundation, 4201 Wilson Boulevard, Arlington, Virginia 22230.

Activity for Which Permit Is Requested

Enter Antarctic Specially Protected Areas

The applicant proposes to conduct recreational and educational visits, by authorized U.S. Antarctic Program (USAP) participants, to the following areas: ASPA #154-Cape Evans, including Scott's Hut; ASPA #158-Cape Adare, including the historic huts; ASPA #156-Cape Royds, including Shackleton's Hut; and ASPA #157-Discovery Hut (Hut Point). McMurdo Station is located on Hut Point, Ross Island, and is in very close proximity to several historic huts, especially Discovery Hut, which sits adjacent to the station. Access to the huts will be by tracked vehicle, helicopter, or on foot as appropriate. All visits will be conducted in accordance with the management plans for the specific sites. In addition, procedures for monitoring numbers of USAP visitors throughout the season will be implemented.

In addition, the applicant proposes entry to ASPA #122 (Arrival Heights), by authorized U.S. Antarctic Program (USAP) participants, for the purpose of monitoring sensitive scientific equipment installed to record signals associated with upper atmospheric programs, and other essential local communications equipment as described in the Management Plan.

Location

ASPA #154—Cape Evans, including Scott's Hut; ASPA #158—Cape Adare, including the historic huts; ASPA #156-Cape Royds, including Shackleton's Hut; ASPA #157—Discovery Hut, Hut Point; and, ASPA #122 Arrival Heights, Ross Island.

Dates: October 1, 2003-September 30, 2008

2. Applicant: Permit Application No. 2004-007

Grant Ballard, 4990 Shoreline Highway, Stinson Beach, CA 94970.

Activity for Which Permit Is Requested

Take and Import into the U.S.A. The applicant proposes to collect up to 10 specimens of a lichen discovered in Antarctica that may be a new species. The specimens will be brought back to the United States for further analysis and identification. Approximately half of the samples will be shipped from the U.S. to foreign lichen experts for collaboration on identification. Any remaining samples will be deposited to the California Academy of Sciences botanical collection.

Location

Igloo Spur (near Cape Crozier), Ross Island

Dates: November 10, 2003 to February 1, 2004

Nadene G. Kennedy,
Permit Officer, Office of Polar Programs.

[FR Doc. 03-16347 Filed 6-26-03; 8:45 am]

BILLING CODE 7555-01-M